DEPARTMENT OF ENERGY

Federal Energy Regulatory Commission

[Docket No. RP02-151-001]

Gulf South Pipeline Company, LP; Notice of Compliance Filing

March 14, 2002.

Take notice that on March 7, 2002, Gulf South Pipeline Company, LP (Gulf South) tendered for filing as part of its FERC Gas Tariff, Sixth Revised Volume No. 1, the following tariff sheets, to become effective February 25, 2002:

Substitute Second Revised Sheet No. 306

Substitute Original Sheet No. 307

Gulf South states that the above tariff sheets have been filed to comply with the Order issued February 22, 2002, 98 FERC ¶ 61,186. In its original filing, Gulf South proposed provisions concerning the allocated market and regulatory risks between Gulf South and its No Notice Service (NNS) Customers. The Commission directed Gulf South to remove the 90-day prior notice written provision and to file revised tariff sheets reflecting a more reasonable notice period. The compliance filing incorporates this change.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-6703 Filed 3-19-02; 8:45 am]

BILLING CODE 6717-01-P